DEPARTMENT OF JUSTICE

Antitrust Division

Granting of Requests for Early Termination of the Waiting Period Under the Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register. The following transactions were granted early termination—on the date indicated—of the waiting period provided by law and the premerger notification rules. The listing includes the transaction number and the parties to the transaction. The Federal Trade Commission and the Assistant Attorney General for the Antitrust Division of the Department of Justice made the grants. Neither agency intends to take any action with respect to this proposed acquisitions during the applicable waiting period.

Early Termination Granted
06/03/2022
20220800 | G | General Dynamics Corporation; Walter P. Kitonis, III; Progeny Systems Corporation.
20212748 | G | The Big Sky Trust; Welbilt, Inc.

Suzanne Morris,
Chief, Premerger and Division Statistics, Antitrust Division, Department of Justice.

[FR Doc. 2022-12626 Filed 6-10-22; 8:45 am]

BILLING CODE 4410-11-P